DEPARTMENT OF TRANSPORTATION

Pipeline and Hazardous Materials Safety Administration

[Docket No. PHMSA-2025-0021]

Pipeline Safety: Information Collection Activities

AGENCY: Pipeline and Hazardous Materials Safety Administration (PHMSA), DOT.

ACTION: Notice and request for comments.

SUMMARY: In compliance with the Paperwork Reduction Act of 1995 (44 U.S.C. 3501 et seq.), this notice announces that the information collection request abstracted below is being forwarded to the Office of Management and Budget (OMB) for review and comment. PHMSA plans to revise the instructions for Form PHMSA F 7100.2 INCIDENT REPORT—GAS TRANSMISSION, GAS GATHERING, AND UNDERGROUND NATURAL GAS STORAGE FACILITIES to provide clarity on reporting the intentional release of gas through relief valves and emergency shutdown devices. A Federal Register notice with a 60-day comment period soliciting comments on this information collection revision was published on December 17, 2020.

DATES: Interested persons are invited to submit comments on or before September 12, 2025.

ADDRESSES: The public is invited to submit comments regarding these information collection requests, including suggestions for reducing the burden, to Office of Management and Budget (OMB), Attention: Desk Officer for the Office of the Secretary of Transportation, 725 17th Street NW, Washington, DC 20503. Comments can also be submitted electronically at www.reginfo.gov/public/do/PRAMain.

FOR FURTHER INFORMATION CONTACT: Angela Hill by email at Angela.Hill@dot.gov.

SUPPLEMENTARY INFORMATION:

I. Background

Title 5, Code of Federal Regulations section 1320.8(d), requires the Pipeline and Hazardous Materials Safety Administration (PHMSA) to provide interested members of the public and affected agencies the opportunity to comment on information collection and recordkeeping requests before they are submitted to OMB for approval. In accordance with this regulation, on December 17, 2020 PHMSA published a Federal Register notice with a 60-day comment period soliciting comments on its intent to revise the instructions for Form PHMSA F 7100.2 INCIDENT REPORT—GAS TRANSMISSION, GAS GATHERING, AND UNDERGROUND NATURAL GAS STORAGE FACILITIES which is under OMB Control Number 2137-0635.

The proposed revisions included changes to the instructions to Form PHMSA F 7100.2 to remove the requirement for operators to report relief valve lifts and compressor station emergency shutdown (ESD) events when the systems function as expected. In a subsequent 30-day notice, published in the Federal Register on May 14, 2021, PHMSA decided to delay proposed revisions and consider the comments in a future information collection change.

PHMSA is again proposing to revise to the instructions for Form PHMSA F 7100.2 to clarify how operators should treat the reporting of intentional gas releases. The current instructions state that the intentional and controlled release of gas for the purpose of maintenance or other routine operating activities is not to be reported. However, the instructions for Section A7, specify “When ESDs or relief valves are activated as the result of a safety condition that has occurred, the volume released should be included in the “unintentional” category, even if safety equipment performed as designed . . .” In the December 2020 notice, PHMSA proposed to revise the instructions to indicate that when gas is released through a relief valve or a compressor station during an ESD event, and devices open and close at the specified set points, the release of gas is considered intentional.

One of the commenters (the Associations) ¹ to the December 2020 notice suggested that the proposed language be clarified to specify that a relief valve or ESD system need not “close” at the specified setpoint for the event to be considered intentional, because a relief device may not perfectly “close” (i.e., reseat) completely following a relief event. The Associations specified that if the relief valve or ESD opens at the specified set point and relieves gas through the intended pathway, then the relief valve has functioned as designed. The Associations also suggested that PHMSA clarify that when determining whether a relief valve opened at the specified setpoint, the operator should consider the relief valve manufacturer's specified tolerances. The Associations noted that relief valves are commonly designed to begin partially opening before the set point is reached to reduce the risk of overpressure. The Associations also noted that ESD systems may be designed to activate in response to a “condition” rather than a “set point” (e.g., gas detection). The Associations concluded by specifying that it is illogical to classify manual ESD activations as unintentional since such events are intentional actions taken by trained operator personnel.

¹ The Associations include: The American Gas Association, American Petroleum Institute, American Public Gas Association, GPA Midstream Association, and Interstate Natural Gas Association of America (https://www.regulations.gov/comment/PHMSA-2019-0172-0006).

The Associations proposed the following language for the general instructions, “When gas is released through a relief valve or a compressor station has an emergency shutdown (ESD) system and devices open at the specified set points (considering the manufacturer's specified tolerances) or conditions, release of gas is considered intentional.”

The Associations proposed the following language for the A7 instructions, “The volume released during a relief valve activation is considered intentional when the device opens at the specified setpoint, considering the manufacturer's specified tolerances. The volume released during an emergency shutdown (ESD) that is activated by a station safety device is considered intentional. The volume released during an ESD in which one or more valves in the release pathway do not properly open is considered unintentional.”

PHMSA acknowledges the concerns of the Associations and, based on the additional information provided, agrees with the proposed revisions. PHMSA does not intend to collect data on events that are not associated with equipment failure or malfunctions as those events do not represent safety risks to the public. The elimination of this data will provide a more accurate representation of the safety of gas transmission pipelines, allowing both operators and regulators to better identify and address safety concerns.

While PHMSA is proposing that the release of gas from a relief valve or ESD device is not a reportable incident as defined by pipeline safety regulations, it may qualify as an abnormal operation or safety related condition. Section 192.605 requires the operator's operations and maintenance manual to include procedures for the handling of abnormal operations. Under § 192.605(c)(1)(iv), operators are required to respond to, investigate, and correct the cause of the operation of any safety device. Under § 191.23(a)(10), operators of gas transmission pipelines are also required to submit a safety related condition report for each exceedance of the maximum allowable operating pressure that exceeds the margin (build-up) allowed for operation of pressure-limiting or control devices as specified in the applicable requirements of §§ 192.201, 192.620(e), and 192.739.

PHMSA notes that relief device activations may also be subject to reporting under other Federal or state laws. (See, e.g., Environmental Protection Agency's Greenhouse Gas Reporting Program, 40 CFR 98 subpart W).

II. Summary of Impacted Collection

As section 1320.8(d) of Title 5 of the CFR requires PHMSA to provide interested members of the public and affected agencies the opportunity to comment on information collection and recordkeeping requests before they are submitted to OMB for approval, this notice identifies an information collection request that PHMSA will submit to OMB for revision.

The following information is provided for this information collection request: (1) Title of the information collection; (2) OMB control number; (3) Current expiration date; (4) Type of request; (5) Abstract of the information collection activity; (6) Description of affected public; (7) Estimate of total annual reporting and recordkeeping burden; and (8) Frequency of collection.

PHMSA will request a three-year term of approval for this information collection activity. PHMSA requests comments on the following information:

Title: “Incident Reports for Natural Gas Pipeline Operators”.

OMB Control Number: 2137-0635.

Current Expiration Date: 06/30/2026.

Abstract: Operators of natural gas pipelines, underground natural gas storage (UNGS), and liquefied natural gas (LNG) facilities are required to report incidents to PHMSA per the requirements in 49 CFR part 191. This mandatory information collection covers the collection of incident report data from natural gas pipeline, UNGS, and LNG operators. The reports contained within this information collection support the Department of Transportation's strategic goal of safety. This information is an essential part of PHMSA's overall effort to minimize failures on natural gas transmission, gathering, and distribution pipelines, and UNGS and LNG facilities. PHMSA proposes to revise the instructions for Form PHMSA F 7100.2 INCIDENT REPORT—GAS TRANSMISSION, GAS GATHERING, AND UNDERGROUND NATURAL GAS STORAGE FACILITIES to provide clarity on reporting the intentional release of gas through relief valves and emergency shutdown devices.

Affected Public: Operators of certain PHMSA-regulated pipelines, UNGS facilities, and LNG facilities.

Annual Reporting and Recordkeeping Burden:

Total Annual Responses: 840.

Total Annual Burden Hours: 2,927.

Frequency of Collection: On occasion.

Comments are invited on:

(a) The need to review and revise these collections of information for the proper performance of Agency functions, including whether the information will have practical utility.

(b) The accuracy of the Agency's estimate of the burden required to collect information, including the validity of the methodology and assumptions used.

(c) Ways to enhance the quality, utility, and clarity of the information to be collected.

(d) Ways to minimize the burden of the collection of information on respondents, including the use of appropriate automated, electronic, mechanical, or other technological collection techniques.

Authority: The Paperwork Reduction Act of 1995; 44 U.S.C. Chapter 35, as amended; and 49 CFR 1.48.

Issued in Washington, DC, on August 8, 2025, under authority delegated in 49 CFR 1.97.
Linda Daugherty,
Acting Associate Administrator for Pipeline Safety.

[FR Doc. 2025-15329 Filed 8-12-25; 8:45 am]

BILLING CODE 4910-60-P